DEPARTMENT OF TRANSPORTATION

National Highway Traffic Safety Administration

[Docket No. NHTSA-2007-28692]

Notice of Tentative Decision That Certain Nonconforming Vehicles Are Eligible for Importation

AGENCY: National Highway Traffic Safety Administration, DOT.

ACTION: Request for comments on tentative decision that certain nonconforming vehicles are eligible for importation.

SUMMARY: This notice requests comments on a tentative decision by the National Highway Traffic Safety Administration (NHTSA) that certain vehicles that do not comply with all applicable Federal motor vehicle safety standards, but that are certified by their original manufacturer as complying with all applicable Canadian motor vehicle safety standards, are eligible for importation into the United States. The vehicles in question either (1) Are substantially similar to vehicles that were certified by their manufacturers as complying with the U.S. safety standards and are capable of being readily altered to conform to those standards, or (2) have safety features that comply with, or are capable of being altered to comply with, all U.S. safety standards.

DATES: The closing date for comments on this tentative decision is September 13, 2007.

ADDRESSES: Comments should refer to the docket number and notice number, and be submitted to: U.S. Department of Transportation, Docket Operations, M-30, West Building Ground Floor, Room W12-140, 1200 New Jersey Avenue, SE., Washington, DC 20590. [Docket hours are from 10 a.m. to 5 p.m.].

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards (FMVSS) shall be refused admission into the United States unless NHTSA has decided, either pursuant to a petition from the manufacturer or registered importer or on its own initiative, (1) That the nonconforming motor vehicle is substantially similar to a motor vehicle of the same model year that was originally manufactured for importation into and sale in the United States and certified by its manufacturer as complying with all applicable FMVSS, and (2) that the nonconforming motor vehicle is capable of being readily altered to conform to all applicable FMVSS. Where there is no substantially similar U.S.-certified motor vehicle, 49 U.S.C. 30141(a)(1)(B) permits a nonconforming motor vehicle to be admitted into the United States if NHTSA decides that its safety features comply with, or are capable of being altered to comply with, all applicable FMVSS based on destructive test data or such other evidence as NHTSA decides to be adequate.

Most Recent Decision

On September 19, 2002, NHTSA published a notice in the Federal Register at 67 FR 59107 announcing that it had made a final decision on its own initiative that certain motor vehicles that are certified by their original manufacturer as complying with all applicable Canadian motor vehicle safety standards (CMVSS) are eligible for importation into the United States. The notice identified these vehicles as:

(a) All passenger cars manufactured on or after September 1, 2002 and before September 1, 2007, that, as originally manufactured, are equipped with an automatic restraint system that complies with Federal Motor Vehicle Safety Standard (FMVSS) Nos. 208 Occupant Crash Protection, and that comply with FMVSS No. 201 Occupant Protection in Interior Impact, 214 Side Impact Protection, 225 Child Restraint Anchorage Systems, and 401 Internal Trunk Release; and

(b) All multipurpose passenger vehicles, trucks and buses with a gross vehicle weight rating (GVWR) of 4,535 kg (10,000 lb) or less that were manufactured on or after September 1, 2002, and before September 1, 2007, that, as originally manufactured, comply with FMVSS Nos. 201, 202 Head Restraints, 208, 214, and 216 Roof Crush Resistance, and insofar as it is applicable, with FMVSS No. 225.

In the notice of tentative decision that preceded the final decision, published on August 6, 2002 at 67 FR 50979, the agency explained that the identified standards incorporated requirements that were not adopted, in whole or in part, by Canada. The notice proposed limiting the import eligibility decision to vehicles manufactured before September 1, 2007 so that the agency could assess, prior to that date, whether any other requirements were added to the FMVSS that Canada chose not to adopt. As previously discussed, the final eligibility decision published on September 19, 2002 included this limitation.

Additional Discrepancies Between U.S. and Canadian Standards

Since the last final eligibility decision covering Canadian-certified vehicles was issued, additional requirements have been proposed or added to several FMVSS that have yet to be adopted by Canada. Those requirements are as follows:

FMVSS No. 110 Tire Selection and Rims for Motor Vehicles with a GVWR of 4,536 kilograms (10,000 pounds) or less: This standard was amended to include new vehicle labeling and performance requirements, effective September 1, 2007, that have yet to be adopted by Canada.

FMVSS No. 118 Power-Operated Window, Partition, and Roof Panel Systems: Paragraph S5.2(b) of the U.S. standard has an optional requirement for automatic reversal systems that has yet to be adopted by Canada. Paragraph S5.3 has a requirement for proximity detection using infrared reflectance that also has yet to be adopted by Canada. Paragraph S6 specifies requirements for actuation devices that will apply to vehicles manufactured on or after September 1, 2008 and that also have yet to be adopted by Canada.

FMVSS No. 126 Electronic Stability Control Systems: There is no Canadian equivalent to this standard, which will be phased in for vehicles manufactured on or after September 1, 2008 and apply to 100 percent of passenger cars and multipurpose passenger vehicles, trucks and buses with a gross vehicle weight rating (GVWR) of 4,535 kg (10,000 lb) or less manufactured on or after September 1, 2011.

FMVSS No. 138 Tire Pressure Monitoring Systems: Canada has no requirement for these components. By its terms, the standard does not apply to vehicles with dual wheels on an axle.

FMVSS No. 202a Head Restraints: There is no Canadian equivalent to the requirements of this standard, which become mandatory for vehicles manufactured on or after September 1, 2008.

FMVSS No. 206 Door Locks and Door Retention Components: Proposed revisions which, if adopted, will become effective on September 1, 2008, may be in disharmony with the Canadian standard. Those revisions would add requirements relating to displacement to the test procedure for sliding doors, add a requirement for a secondary latch position on double doors, and prevent rear door locks from being released by the same action used to release the door.

FMVSS No. 213 Child Restraint Systems: The U.S. standard measures head injury criteria in a manner that differs from that of the Canadian standard. The U.S. standard also prescribes a compression deflection test that is not found in the Canadian standard.

In light of these discrepancies, NHTSA has tentatively decided to require, as a condition for import eligibility, that Canadian-certified passenger cars and Canadian-certified multipurpose passenger vehicles, trucks, and buses with a GVWR of 4,536 kg (10,000 lb) or less manufactured on or after September 1, 2007 comply, as originally manufactured, with FMVSS Nos. 110, 118 and 213, and, insofar as it is applicable, with FMVSS No. 138. The agency has also tentatively decided to require, as a condition for import eligibility, that Canadian-certified passenger cars and Canadian-certified multipurpose passenger vehicles, trucks, and buses with a GVWR of 4,536 kg (10,000 lb) or less manufactured on or after September 1, 2008 comply, as originally manufactured, with FMVSS Nos. 110, 118, 202a, 206, 213, and, insofar as it is applicable, with FMVSS No. 138. We have also tentatively decided to require, as a condition for import eligibility, that Canadian-certified passenger cars and Canadian-certified multipurpose passenger vehicles, trucks, and buses with a GVWR of 4,536 kg (10,000 lb) or less manufactured on or after September 1, 2011 comply, as originally manufactured, with FMVSS Nos. 110, 118, 126, 202a, 206, 213, and, insofar as it is applicable, with FMVSS No. 138.

Future Cut-Off Date

To avoid the need to amend any existing eligibility decisions in the event that there are any further requirements imposed under the FMVSS that are not carried into the corresponding CMVSS, NHTSA has tentatively decided to limit its import eligibility decisions for Canadian-certified passenger cars and for multipurpose passenger vehicles, trucks, and buses with a GVWR of 10,000 pounds or less to such vehicles manufactured before September 1, 2012. Prior to that date, the agency will assess whether there is a need to condition the import eligibility of any subsequently manufactured Canadian-certified vehicles on compliance with any additional FMVSS. The agency intends to issue new decisions covering vehicles manufactured on or after September 1, 2012 within a sufficient period before that date is reached.

Tentative Decision

Pending its review of any comments submitted in response to this notice, NHTSA hereby tentatively decides that:

(a) All passenger cars manufactured on or after September 1, 2007, and before September 1, 2008, that, as originally manufactured, comply with FMVSS Nos. 110, 118, 201, 208, 213, 214, 225, and 401, and, insofar as it is applicable, with FMVSS No. 138;

(b) All passenger cars manufactured on or after September 1, 2008 and before September 1, 2011 that, as originally manufactured, comply with FMVSS Nos. 110, 118, 201, 202a, 206, 208, 213, 214, 225, and 401, and, insofar as it is applicable, with FMVSS No. 138;

(c) All passenger cars manufactured on or after September 1, 2011 and before September 1, 2012 that, as originally manufactured, comply with FMVSS Nos. 110, 118, 126, 201, 202a, 206, 208, 213, 214, 225, and 401, and, insofar as it is applicable, with FMVSS No. 138;

(d) All multipurpose passenger vehicles, trucks, and buses with a GVWR of 4,536 kg (10,000 lb) or less manufactured on or after September 1, 2007 and before September 1, 2008, that, as originally manufactured, comply with FMVSS Nos. 110, 118, 201, 208, 213, 214, and 216, and insofar as they are applicable, with FMVSS Nos. 138 and 225;

(e) All multipurpose passenger vehicles, trucks, and buses with a GVWR of 4,536 kg (10,000 lb) or less manufactured on or after September 1, 2008 and before September 1, 2011, that, as originally manufactured, comply with FMVSS Nos. 110, 118, 201, 202a, 206, 208, 213, 214, and 216, and insofar as they are applicable, with FMVSS Nos. 138 and 225; and

(f) All multipurpose passenger vehicles, trucks, and buses with a GVWR of 4,536 kg (10,000 lb) or less manufactured on or after September 1, 2011 and before September 1, 2012, that, as originally manufactured, comply with FMVSS Nos. 110, 118, 126, 201, 202a, 206, 208, 213, 214, and 216, and insofar as they are applicable, with FMVSS Nos. 138 and 225, that are certified by their original manufacturer as complying with all applicable Canadian motor vehicle safety standards, are eligible for importation into the United States on the basis that either:

1. They are substantially similar to vehicles of the same make, model, and model year originally manufactured for importation into and sale in the United States, or originally manufactured in the United States for sale therein, and certified as complying with all applicable FMVSS, and are capable of being readily altered to conform to all applicable FMVSS, or

2. They have safety features that comply with, or are capable of being altered to comply with, all applicable FMVSS.

Vehicle Eligibility Number

The importer of a vehicle admissible under any final decision must indicate on the form HS-7 accompanying entry the appropriate vehicle eligibility number indicating that the vehicle is eligible for entry. Vehicle Eligibility Number VSA-80 is currently assigned to Canadian-certified passenger cars and Vehicle Eligibility Number VSA-81 is currently assigned to Canadian-certified multipurpose passenger vehicles, trucks, and buses with a GVWR of 4,536 kg (10,000 lb) or less. If this tentative decision is made final, all passenger cars admissible under the final decision will be assigned vehicle eligibility number VSA-80, and all multipurpose passenger vehicles, trucks, and buses admissible under the final decision will be assigned vehicle eligibility number VSA-81.

Comments

Section 30141(b) of Title 49, U.S. Code requires NHTSA to provide a minimum period for public notice and comment on decisions made on its own initiative consistent with ensuring expeditious, but full consideration and avoiding delay by any person. NHTSA believes that a comment period of 30 days is appropriate for this purpose. Interested persons are invited to submit written comments on this tentative decision. Comments must refer to the docket and notice number identified at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically by logging onto the Docket Management System Web site at http://dms.dot.gov. Click on “Help” to obtain instructions for filing the document electronically. Comments may be faxed to 1-202-493-2251, or may be submitted to the Federal eRulemaking Portal. To access the portal, go to http://www.regulations.gov and then follow the online instructions for submitting comments.

All comments received before the close of business on the closing date indicated above will be considered, and will be available for examination in the docket at the above address both before and after that date. To the extent possible, comments filed after the closing date will also be considered.

Notice of NHTSA's final decision will be published in the Federal Register pursuant to the authority identified below.

Authority: 49 U.S.C. 30141(a)(1)(A), (a)(1)(B), and (b)(1); 49 CFR 593.8; delegation of authority at 49 CFR 1.50.

Issued on: August 8, 2007.
Nicole R. Nason,
Administrator.

[FR Doc. E7-15829 Filed 8-13-07; 8:45 am]

BILLING CODE 4910-59-P